FARM CREDIT ADMINISTRATION

12 CFR Parts 600 and 606

RIN 3052-AD08

Organization and Functions; Enforcement of Nondiscrimination on the Basis of Handicap in Programs or Activities Conducted by the Farm Credit Administration; Organization of the Farm Credit Administration

AGENCY: Farm Credit Administration.

ACTION: Final rule.

SUMMARY: The Farm Credit Administration (FCA, we, our or Agency) issues a final rule amending our regulations in order to reflect internal organization changes. Another amendment updates a statutory citation for the Farm Credit Act.

DATES: This regulation shall become effective no earlier than 30 days after publication in the Federal Register during which either or both Houses of Congress are in session. We will publish notice of the effective date in the Federal Register.

FOR FURTHER INFORMATION CONTACT:

Michael T. Wilson, Policy Analyst, Office of Regulatory Policy, Farm Credit Administration, McLean, VA 22102-5090, (703) 883-4124, TTY (703) 883-4056,

or

Jane Virga, Senior Counsel, Office of General Counsel, Farm Credit Administration, McLean, VA 22102-5090, (703) 883-4071, TTY (703) 883-4056.

SUPPLEMENTARY INFORMATION:

I. Objective

The objective of this final rule is to reflect changes to the FCA's organization and identification of those FCA employees responsible for various functions. The Freedom of Information Act, 5 U.S.C. 552, requires, in part, that each Federal agency publish in the Federal Register for the guidance of the public a description of its organization structure. Another amendment updates the statutory citation for the Farm Credit Act of 1971, as amended (Act).

We revise the regulations by:

(1) In § 600.1, adding a citation for the Food, Conservation, and Energy Act of 2008, Public Law 110-246, June 18, 2008, (section 5401-5407), which revised the statutory citation for the Act.

(2) In § 600.4:

(a) Including the Office of the Chief Operating Officer, Office of Information Technology, Designated Agency Ethics Official, and Equal Employment Opportunity and Inclusion in FCA's organizational structure and a description of their functions; and

(b) Amending the responsibilities of the Office of Management Services to remove the function of administering FCA's information resources management program;

(3) In § 606.670, removing from paragraph (i) the words “Director, Equal Employment Opportunity” and adding in their place the words “Equal Employment Opportunity and Inclusion Director”.

II. Certain Finding

We have determined that the amendments involve Agency management and personnel and other minor technical changes.

Therefore, the amendments do not constitute a rulemaking under the Administrative Procedure Act (APA), 5 U.S.C. 551, 553(a)(2). Under the APA, the public may participate in the promulgation of rules that have a substantial impact on the public. The amendments to our regulations relate to Agency management and personnel and a minor technical change only and have no direct impact on the public and, therefore, do not require public participation.

Even if these amendments were a rulemaking under 5 U.S.C. 551, 553(a)(2) of the APA, we have determined that notice and public comment are unnecessary and contrary to the public interest. Under 5 U.S.C. 553(b)(A) and (B) of the APA, an agency may publish regulations in final form when they involve matters of agency organization or where the agency for good cause finds that notice and public comment are impracticable, unnecessary, or contrary to the public interest. As discussed above, this amendment results from recent office reorganizations. Because the amendments will provide accurate and current information on the organization of the FCA and update the citation to the Act, it would be contrary to the public interest to delay amending the regulations.

III. Regulatory Flexibility Act

Pursuant to section 605(b) of the Regulatory Flexibility Act (5 U.S.C. 601 et seq.), FCA hereby certifies that the final rule will not have a significant economic impact on a substantial number of small entities. Each of the banks in the Farm Credit System (System), considered together with its affiliated associations, has assets and annual income in excess of the amounts that would qualify them as small entities. Therefore, System institutions are not “small entities” as defined in the Regulatory Flexibility Act.

List of Subjects

12 CFR Part 600

Organization and functions (Government agencies).

12 CFR Part 606

Administrative practice and procedure, Civil rights, Equal employment opportunity, Federal buildings and facilities, Individuals with disabilities.

As stated in the preamble, parts 600 and 606 of chapter VI, title 12 of the Code of Federal Regulations are amended as follows:

PART 600—ORGANIZATION AND FUNCTIONS

1. The authority citation for part 600 continues to read as follows:

Authority: Secs. 5.7, 5.8, 5.9, 5.10, 5.11, 5.17, 8.11 of the Farm Credit Act (12 U.S.C. 2241, 2242, 2243, 2244, 2245, 2252, 2279aa-11).

2. Revise § 600.1 to read as follows:

§ 600.1 The Farm Credit Act.

The Farm Credit Act of 1971, Public Law 92-181 recodified and replaced the prior laws under which the Farm Credit Administration (FCA) and the institutions of the Farm Credit System (System or FCS) were organized and operated. The prior laws, which were repealed and superseded by the Act, are identified in section 5.40(a) of the Act. Subsequent amendments to the Act and enactment dates are as follows: Public Law 94-184, December 31, 1975; Public Law 95-443, October 10, 1978; Public Law 96-592, December 24, 1980; Public Law 99-190, December 19, 1985; Public Law 99-198, December 23, 1985; Public Law 99-205, December 23, 1985; Public Law 99-509, October 21, 1986; Public Law 100-233, January 6, 1988; Public Law 100-399, August 17, 1988; Public Law 100-460, October 1, 1988; Public Law 101-73, August 9, 1989; Public Law 101-220, December 12, 1989; Public Law 101-624, November 28, 1990; Public Law 102-237, December 13, 1991; Public Law 102-552, October 28, 1992; Public Law 103-376, October 19, 1994; Public Law 104-105, February 10, 1996; Public Law 104-316, October 19, 1996; Public Law 107-171, May 13, 2002; Public Law 110-246, June 18, 2008. The law is codified at 12 U.S.C. 2000, et seq.

3. Revise § 600.4 to read as follows:

§ 600.4 Organization of the Farm Credit Administration.

(a) Offices and functions. The primary offices of the FCA are:

(1) Office of Congressional and Public Affairs. The Office of Congressional and Public Affairs performs Congressional liaison duties and coordinates and disseminates Agency communications.

(2) Office of Examination. The Office of Examination evaluates the safety and soundness of FCS institutions and their compliance with law and regulations and manages FCA's enforcement and supervision functions.

(3) Office of General Counsel. The Office of General Counsel provides legal advice and services to the FCA Chairman, the FCA Board, and Agency staff.

(4) Office of Inspector General. The Office of Inspector General conducts independent audits, inspections, and investigations of Agency programs and operations and reviews proposed legislation and regulations.

(5) Office of Regulatory Policy. The Office of Regulatory Policy develops policies and regulations for the FCA Board's consideration; evaluates regulatory and statutory prior approvals; manages the Agency's chartering activities; and analyzes policy and strategic risks to the System.

(6) Office of Management Services. The Office of Management Services provides financial management services. It administers the Agency's human resources management program, contracts, procurement, mail services, and payroll.

(7) Office of Secondary Market Oversight. The Office of Secondary Market Oversight regulates and examines the Federal Agricultural Mortgage Corporation for safety and soundness and compliance with law and regulations.

(8) Secretary to the Board. The Secretary to the Board serves as the parliamentarian for the Board and keeps permanent and complete records and minutes of the acts and proceedings of the Board.

(9) Office of the Chief Operating Officer. The Chief Operating Officer has broad responsibility for planning, directing, and controlling the operations of the Offices of Management Services, Information Technology, Examination, Regulatory Policy, and General Counsel in accordance with the operating philosophy and policies of the FCA Board.

(10) Designated Agency Ethics Official. The Designated Agency Ethics Official is designated by the FCA Chairman to administer the provisions of title I of the Ethics in Government Act of 1978, as amended, to coordinate and manage FCA's ethics program, and to provide liaison to the Office of Government Ethics with regard to all aspects of FCA's ethics program.

(11) Office of Information Technology. The Office of Information Technology manages information resources management program and delivers the Agency's information technology, data analysis infrastructure, and the security supporting Agency technology resources.

(12) Equal Employment Opportunity and Inclusion. The Office of Equal Employment Opportunity and Inclusion manages and directs the Agency-wide Diversity, Inclusion, and Equal Employment Opportunity Program for FCA and FCSIC. The office serves as the chief liaison with the Equal Employment Opportunity Commission and the Office of Personnel Management on all Equal Employment Opportunity, diversity, and inclusion issues. The office provides counsel and leadership to Agency management to carry out its continuing policy and program of nondiscrimination, affirmative action, and diversity.

(b) Additional Information. You may obtain more information on the FCA's organization by visiting our Web site at http://www.fca.gov. You may also contact the Office of Congressional and Public Affairs:

(1) In writing at FCA, 1501 Farm Credit Drive, McLean, Virginia 22102-5090;

(2) By email at info-line@fca.gov; or

(3) By telephone at (703) 883-4056.

PART 606—ENFORCEMENT OF NONDISCRIMINATION ON THE BASIS OF HANDICAP IN PROGRAMS OR ACTIVITIES CONDUCTED BY THE FARM CREDIT ADMINISTRATION

4. The authority citation for part 606 continues to read as follows:

Authority: 29 U.S.C. 794.

§ 606.670 [Amended]

5. Amend § 606.670 by removing the words “Director, Equal Employment Opportunity” and adding in their place, the words “Equal Employment Opportunity and Inclusion Director” in paragraph (i).

Dated: October 30, 2015.
Dale L. Aultman,
Secretary, Farm Credit Administration Board.

[FR Doc. 2015-28244 Filed 11-4-15; 8:45 am]

BILLING CODE 6705-01-P